DEPARTMENT OF DEFENSE

Department of the Air Force

Board of Visitors of the U.S. Air Force Academy Notice of Meeting; Cancellation

AGENCY: U.S. Air Force Academy Board of Visitors, Department of Defense.

ACTION: Quarterly meeting notice; cancellation.

SUMMARY: On Friday, August 19, 2016, (81 FR 55454), the Department of Defense published in the Federal Register, a notice to announce the quarterly meeting of the United States Air Force Academy Board of Visitors on September 7 & 8, 2016. The meeting was cancelled due to last-minute circumstances indicating there would not be a quorum for the meeting.

FOR FURTHER INFORMATION CONTACT: The next scheduled USAFA BoV meeting has not been established, but will be published in the Federal Register at least 15 days prior to the meeting.

For additional information or to attend this BoV meeting, contact Major James Kuchta, Accessions and Training Division, AF/A1PT, 1040 Air Force Pentagon, Washington, DC 20330, (703) 695-4066, James.L.Kuchta.mil@mail.mil.

Meeting Announcement: The Department of Defense had to cancel the United States Air Force Academy Board of Visitors meeting on September 7 & 8, 2016 because last-minute circumstances indicated there would not be a quorum for the meeting. Due to circumstances beyond the control of the Designated Federal Officer and the Department of Defense, the Board of Visitors U.S. Air Force Academy was unable to provide public notification of its cancellation of its previously announced meeting on September 7th and 8th, 2016, as required by 41 CFR 102-3.150(a). Accordingly, the Advisory Committee Management Officer for the Department of Defense, pursuant to 41 CFR 102-3.150(b), waives the 15-calendar day notification requirement.

Henry Williams,
Acting Air Force Federal Register Officer.

[FR Doc. 2016-21624 Filed 9-7-16; 8:45 am]

BILLING CODE 5001-10-P